DEPARTMENT OF ENERGY

Federal Energy Regulatory Commission

Combined Notice of Filings #1

Take notice that the Commission received the following electric rate filings:

Docket Numbers: ER10-2437-025.

Applicants: Arizona Public Service Company.

Description: Notice of Change in Status of Arizona Public Service Company.

Filed Date: 1/29/26.

Accession Number: 20260129-5556.

Comment Date: 5 p.m. ET 2/19/26.

Docket Numbers: ER11-3959-014.

Applicants: Post Rock Wind Power Project, LLC.

Description: Compliance filing: Post Rock Notice CIS to be effective 1/31/2026.

Filed Date: 2/3/26.

Accession Number: 20260203-5121.

Comment Date: 5 p.m. ET 2/24/26.

Docket Numbers: ER15-2589-006.

Applicants: CPV Shore, LLC.

Description: Refund Report: Refund Report to be effective N/A.

Filed Date: 2/3/26.

Accession Number: 20260203-5103.

Comment Date: 5 p.m. ET 2/24/26.

Docket Numbers: ER23-2426-003.

Applicants: Pattern Energy Management Services LLC.

Description: Compliance filing: Pattern Notice Change in Status to be effective N/A.

Filed Date: 2/2/26.

Accession Number: 20260202-5210.

Comment Date: 5 p.m. ET 2/23/26.

Docket Numbers: ER23-2426-004.

Applicants: Pattern Energy Management Services LLC.

Description: Compliance filing: Pattern CIS to be effective 1/31/2026.

Filed Date: 2/3/26.

Accession Number: 20260203-5119.

Comment Date: 5 p.m. ET 2/24/26.

Docket Numbers: ER23-2639-003.

Applicants: NRG Business Marketing LLC.

Description: Refund Report: Refund Report to be effective N/A.

Filed Date: 2/3/26.

Accession Number: 20260203-5105.

Comment Date: 5 p.m. ET 2/24/26.

Docket Numbers: ER26-648-000.

Applicants: Atlas Solar VI, LLC.

Description: Report Filing: Atlas Solar V and VI Response to Deficiency Letter to be effective N/A.

Filed Date: 2/2/26.

Accession Number: 20260202-5002.

Comment Date: 5 p.m. ET 2/12/26.

Docket Numbers: ER26-649-000.

Applicants: Atlas Solar V, LLC.

Description: Report Filing: Atlas Solar V and VI Response to Deficiency Letter to be effective N/A.

Filed Date: 2/2/26.

Accession Number: 20260202-5001.

Comment Date: 5 p.m. ET 2/12/26.

Docket Numbers: ER26-801-001.

Applicants: PJM Interconnection, L.L.C.

Description: Tariff Amendment: Amendment of NSA, SA No. 7775; AF1-147/AG1-221 in ER26-801-000 to be effective 11/17/2025.

Filed Date: 2/3/26.

Accession Number: 20260203-5124.

Comment Date: 5 p.m. ET 2/24/26.

Docket Numbers: ER26-1245-000.

Applicants: Duke Energy Carolinas, LLC.

Description: § 205(d) Rate Filing: DEC-CEPCI—SA No. 737 LARGE LOAD STABILITY AND POWER QUALITY STUDY AGREEMENT to be effective 4/4/2026.

Filed Date: 2/2/26.

Accession Number: 20260202-5199.

Comment Date: 5 p.m. ET 2/23/26.

Docket Numbers: ER26-1246-000.

Applicants: Public Service Company of Colorado.

Description: § 205(d) Rate Filing: 2026-02-02 Yampa Valley—NITSA & NOA—752, 897 to be effective 4/4/2026.

Filed Date: 2/2/26.

Accession Number: 20260202-5204.

Comment Date: 5 p.m. ET 2/23/26.

Docket Numbers: ER26-1247-000.

Applicants: PacifiCorp.

Description: § 205(d) Rate Filing: eTariff Reconciliation Filing to be effective 7/14/2025.

Filed Date: 2/3/26.

Accession Number: 20260203-5000.

Comment Date: 5 p.m. ET 2/24/26.

Docket Numbers: ER26-1248-000.

Applicants: PJM Interconnection, L.L.C.

Description: § 205(d) Rate Filing: Amendment to ISA, SA No. 6248; Queue No. AE2-206 to be effective 4/5/2026.

Filed Date: 2/3/26.

Accession Number: 20260203-5027.

Comment Date: 5 p.m. ET 2/24/26.

Docket Numbers: ER26-1249-000.

Applicants: PJM Interconnection, L.L.C.

Description: § 205(d) Rate Filing: Amendment to ISA, SA No. 6007; Queue No. AD2-115 to be effective 4/5/2026.

Filed Date: 2/3/26.

Accession Number: 20260203-5035.

Comment Date: 5 p.m. ET 2/24/26.

Docket Numbers: ER26-1250-000.

Applicants: PJM Interconnection, L.L.C.

Description: § 205(d) Rate Filing: Original GIA, Service Agreement No. 7811; Project Identifier No. AG1-105 to be effective 1/5/2026.

Filed Date: 2/3/26.

Accession Number: 20260203-5042.

Comment Date: 5 p.m. ET 2/24/26.

Docket Numbers: ER26-1251-000.

Applicants: Black Hills Power, Inc.

Description: § 205(d) Rate Filing: Network Service Agreement SA No. 152 to be effective 4/1/2026.

Filed Date: 2/3/26.

Accession Number: 20260203-5107.

Comment Date: 5 p.m. ET 2/24/26.

Docket Numbers: ER26-1252-000.

Applicants: Black Hills Power, Inc.

Description: § 205(d) Rate Filing: Network Operating Agreement SA No 153 to be effective 4/1/2026.

Filed Date: 2/3/26.

Accession Number: 20260203-5109.

Comment Date: 5 p.m. ET 2/24/26.

Docket Numbers: ER26-1253-000.

Applicants: Black Hills Power, Inc.

Description: § 205(d) Rate Filing: Network Operating Agreement SA No 154 to be effective 4/1/2026.

Filed Date: 2/3/26.

Accession Number: 20260203-5113.

Comment Date: 5 p.m. ET 2/24/26.

Docket Numbers: ER26-1254-000.

Applicants: Black Hills Power, Inc.

Description: § 205(d) Rate Filing: Network Operating Agreement SA No 156 to be effective 4/1/2026.

Filed Date: 2/3/26.

Accession Number: 20260203-5133.

Comment Date: 5 p.m. ET 2/24/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 3, 2026.
Carlos D. Clay,
Deputy Secretary.

[FR Doc. 2026-02327 Filed 2-5-26; 8:45 am]

BILLING CODE 6717-01-P